OFFICE OF PERSONNEL MANAGEMENT

5 CFR Parts 301, 307, 315, 316, 351, and 720

[Docket ID: OPM-2025-0015]

RIN 3206-AO98

Strengthening Probationary Periods in the Federal Service

AGENCY: Office of Personnel Management.

ACTION: Final rule.

SUMMARY: As directed by Executive Order 14284, “Strengthening Probationary Periods in the Federal Service,” issued on April 24, 2025, the Office of Personnel Management (OPM) is rescinding the regulations on probationary periods for initial appointments in the competitive service and making conforming amendments.

DATES: This final rule is effective on June 24, 2025.

FOR FURTHER INFORMATION CONTACT: Mike Gilmore by telephone at (202) 936-3261 or Katika Floyd by telephone at (202) 606-0960; or by email at employ@opm.gov.

SUPPLEMENTARY INFORMATION:

Background and Legal Authority

This final rule is issued pursuant to Executive Order (E.O.) 14284, “Strengthening Probationary Periods in the Federal Service” (90 FR 17729, April 29, 2025), which requires the Director of OPM to prepare and publish a rule rescinding subpart H of part 315 of title 5, Code of Federal Regulations (CFR), and make conforming amendments. This action is taken under the authority vested in the President by the Constitution and sections 3301, 3302, and 3321 of title 5, United States Code (U.S.C.), and delegated to the Director of the Office of Personnel Management by section 4(b) of E.O. 14284.

The E.O. underscores the expectation of a high-performing Federal workforce and affirms the principle that continued employment in the Federal service must advance the interests of the Federal Government and the American people. It creates a requirement that agency approval is needed before probationary employees become tenured instead of by default upon the expiration of probationary periods. The E.O. also removes inappropriate regulatory barriers that inhibit agencies from fully utilizing probationary periods. In doing so, the E.O. fulfills Congress's intention in the Civil Service Reform Act of 1978 that probationary periods be used as “an extension of the examining process to determine an employee's ability to actually perform the duties of the position.” S. Rep. 95-969, at 45 (1978), 1978 U.S.C.C.A.N. 2723, 2767. In passing the CSRA, Congress believed “[i]t is inappropriate to restrict an agency's authority to separate an employee who does not perform acceptably during this period,” id., and thus the E.O. removes such restrictions.

The E.O. establishes rules and policies for managing probationary periods in the competitive service and trial periods in the excepted services and supersedes the existing regulations in subpart H that limited agency discretion in evaluating employees. In doing so, it draws on the President's longstanding authority to create new Civil Service Rules governing probationary periods in the Federal service. See 5 U.S.C. 3301, 3302, 3321. To that end, the E.O. repealed Civil Service Rule 2.4 on probationary periods, nullified the current provisions governing probationary periods in the competitive service, and established Civil Service Rule 11 to strengthen the use of probationary periods. In addition, Civil Service Rule 11 establishes a trial period for employees in the excepted service, requires employees to demonstrate their continued employment is in the public interest, requires agencies to certify continued employment meets the needs of the agency and advances the efficiency of Federal service, and allows OPM to establish an appeals process for probationary and trial period terminations under certain circumstances. In addition, it retains some of the current regulatory provisions governing the circumstances under which probationary or trial periods are required and crediting service toward the completion of a probationary or trial period.

This final rule removes the probationary period regulations in subpart H of part 315 of title 5 from the CFR and makes conforming edits to parts 301, 307, 315, 316, 351, and 720, which include references to provisions associated with probationary periods prescribed under subpart H (i.e., §§ 315.801-315.806). These references have been removed and replaced with references to the Civil Service Rule 11, as applicable.

Impact of This Rulemaking

The E.O. “supersede[d] subpart H” and “rendered [it] inoperative and without effect.” With this action, OPM is removing the now inoperable text of subpart H from the CFR and making conforming edits. With these actions, the removal of subpart H of part 315 from the CFR eliminates the obstacles to terminating probationary employees and makes the Federal workforce more efficient and effective. The President has determined the prior regulations placed undue burdens on agencies in terminating probationary employees the Government does not need and deterred managers from undertaking that effort. Although OPM anticipates that there will be administrative costs associated with administering agency approvals of probationary employees, OPM anticipates the savings to the Government based on the efficiencies created by the new requirements for removing poor performers will outweigh any costs associated with transitioning to the new requirements of Civil Service Rule 11.

Agencies should be tracking employees' probationary periods and advising supervisors of their status; however, OPM recognizes that agencies will need to make some adjustments in response to the E.O. and these conforming changes. OPM estimates that this rulemaking will require individuals employed by approximately 90 federal agencies to modify their regulations, policies, and procedures to implement this rulemaking and train human resources (HR) practitioners and supervisors. For the purpose of this cost analysis, the assumed average salary rate of Federal employees performing this work will be the rate in 2025 for GS-14, step 5, from the Washington, DC, locality pay table ($161,486 annual locality rate and $77.38 hourly locality rate). We assume that the total dollar value of labor, which includes wages, benefits, and overhead, is equal to 200 percent of the wage rate, resulting in an assumed labor cost of $154.76 per hour.

To comply with the regulatory changes, affected agencies would need to review the final rule and update their regulations, policies, and procedures. We estimate that, in the first year following publication of the final rule, doing so will require an average of 40 hours of work by employees with an average hourly cost of $154.76. This work would result in estimated costs in that first year of implementation of about $6,190.40 per agency, and about $560,000 Governmentwide.

To retain a probationer as an employee, an agency must certify that finalizing the appointment advances the public interest. For probationers who will not be retained, the agency must provide written notice of the effective date of the termination action. Most agencies already have systems in place to advise supervisors as a probationary period is nearing its end, and supervisors provide information regarding whether the probationer is meeting expectations. Although the details of the review are changing and the resulting default action is reversed, OPM does not expect the new requirements to be meaningfully more burdensome than current processes. Similarly, supervisors should be conducting mid-term and final reviews for each of their probationary employees. Therefore, although a review is necessary for the agency to certify that finalizing the appointment advances the public interest, there should not be any new burden associated with conducting the review and making the determination.

Some agencies may choose to make changes to HR systems to facilitate compliance with the amended regulations through automation. These systems are specific to agencies, and OPM does not have information regarding potential costs to automate requirements from the E.O. and the revised regulations. While these costs may vary, OPM anticipates that the overall cost savings associated with the streamlined procedures for terminating probationary employees who have been determined not to be an asset to the Government and the long-term savings of retaining only the most productive and needed employees will exceed the costs of implementing new systems.

Regulatory Compliance

1. Administrative Procedure Act

Pursuant to 5 U.S.C. 553(b)(B), OPM finds that there is good cause to issue this final rule without prior notice and comment. In E.O. 14284, the President directed OPM to rescind subpart H of part 315 within 30 days. In the meantime, the E.O. has rendered subpart H inoperative and without effect. In addition, the E.O. removed Civil Service Rule 2.4, the key authority underlying subpart H. The E.O. also set forth the new Civil Service Rule 11, immediately implementing new requirements and policies for strengthening probationary and trial periods. This final rule merely effectuates the rules and policy established by the E.O., which is based on specific Presidential direction under his statutory and constitutional authority for the civil service. OPM lacks any discretion in this rulemaking action. Therefore, notice and public comment procedures are unnecessary.

Similarly, pursuant to 5 U.S.C. 553(d)(3), OPM finds that there is good cause to make this final rule effective immediately upon publication. This rule merely effectuates the rules and policies established by the E.O. based on specific Presidential direction under his statutory and constitutional authority for the civil service. Removing the now inoperative regulations may reduce the confusion about the rules currently governing probationary and trial periods in the competitive and excepted services. Further, a delayed effective date serves no practical purpose here since the E.O. is effective immediately and agencies must not give force or effect to the provisions of the current regulations.

2. Regulatory Review

OPM has examined the impact of this rule as required by E.O.s 12866 and 13563, which direct agencies to assess all costs and benefits of available regulatory alternatives and, if regulations are necessary, to select regulatory approaches that maximize net benefits (including potential economic, environmental, public health, and safety effects, distributive impacts, and equity). A regulatory impact analysis must be prepared for rules that have an annual effect on the economy of $100 million or more or adversely affect in a material way the economy, a sector of the economy, productivity, competition, jobs, the environment, public health or safety, or State, local, or tribal governments or communities. This rulemaking does not reach that threshold. This rule is not an E.O. 14192 regulatory action because it is does not impose any more than de minimis regulatory costs.

3. Regulatory Flexibility Act

The Acting Director of OPM certifies that this rule will not have a significant economic impact on a substantial number of small entities because it applies only to Federal agencies and employees.

4. Federalism

This regulation will not have substantial direct effects on the States, on the relationship between the National Government and the States, or on distribution of power and responsibilities among the various levels of government. Therefore, in accordance with Executive Order 13132, the Acting Director of OPM certifies that this rule does not have sufficient federalism implications to warrant preparation of a Federalism Assessment.

5. Unfunded Mandates Reform Act of 1995

Section 202 of the Unfunded Mandates Reform Act of 1995 (UMRA) requires that agencies assess anticipated costs and benefits before issuing any rule that would impose spending costs on State, local, or Tribal governments in the aggregate, or on the private sector, in any 1 year of $100 million in 1995 dollars, updated annually for inflation. That threshold is currently approximately $206 million. This rulemaking will not result in the expenditure by State, local, or Tribal governments, in the aggregate, or by the private sector, in excess of the threshold. Thus, no written assessment of unfunded mandates is required.

6. Paperwork Reduction Act

This rule does not affect any reporting or recordkeeping requirements under the Paperwork Reduction Act of 1995 (44 U.S.C. chapter 35).

List of Subjects

5 CFR Part 301

Government employees.

5 CFR Part 307

Government employees, Veterans.

5 CFR Part 315

Government employees.

5 CFR Part 316

Employment, Government employees.

5 CFR Part 351

Administrative practice and procedure, Government employees.

5 CFR Part 720

Affirmative employment programs, Equal employment opportunity,

Government employees, Individuals with disabilities, Reporting and recordkeeping requirements.

Office of Personnel Management
Stephen Hickman,
Federal Register Liaison.

Accordingly, for the reasons stated in the preamble, OPM amends 5 CFR parts 301, 307, 315, 316, 351 and 720 as follows:

PART 301—OVERSEAS EMPLOYMENT

1. The authority citation for part 301 is revised to read as follows:

Authority: 5 U.S.C. 3301, 3302; E.O. 10577, 19 FR 7521, 3 CFR, 1954-1958 Comp., p. 218, as amended by E.O. 10641, 20 FR 8137, 3 CFR, 1954-1958 Comp., p. 274, unless otherwise noted; E.O. 14284, 90 FR 17729.

2. Revise § 301.204 to read as follows:

§ 301.204 Status and probationary period.

(a) An overseas limited employee does not acquire a competitive status on the basis of his or her overseas limited appointment. He or she is required to serve a probationary period of 1 year when given an overseas limited appointment of indefinite duration or an overseas limited term appointment.

(b) The agency may terminate an overseas limited employee at any time during the probationary period. The employee is entitled to the procedures prescribed by the Director of the Office of Personnel Management under § 11.6 of this chapter.

PART 307—VETERANS RECRUITMENT APPOINTMENTS

3. The authority citation for part 307 is revised to read as follows:

Authority: 5 U.S.C. 3301, 3302; 38 U.S.C. 4214; E.O. 11521, 3 CFR, 1970 Comp., p. 912; E.O. 14284, 90 FR 17729.

4. Revise § 307.105 to read as follows:

§ 307.105 Appeal rights.

Individuals serving under VRAs have the same appeal rights as excepted service employees under parts 432 and 752 of this chapter. In addition, any individual serving under a VRA, whose employment under the appointment is terminated within 1 year after the date of such appointment, has the same right to appeal that termination as a career or career-conditional employee has during the first year of employment.

PART 315—CAREER AND CAREER-CONDITIONAL EMPLOYMENT

5. The authority citation for part 315 is revised to read as follows:

Authority: 5 U.S.C. 1302, 3301, and 3302; E.O. 10577, 3 CFR, 1954-1958 Comp., p. 218, unless otherwise noted; E.O. 14284, 90 FR 17729. Secs. 315.601 and 315.609 also issued under 22 U.S.C. 3651 and 3652. Secs. 315.602 and 315.604 also issued under 5 U.S.C. 1104. Sec. 315.603 also issued under 5 U.S.C. 8151. Sec. 315.605 also issued under E.O. 12034, 43 FR 1917, 3 CFR, 1978 Comp., p.111. Sec. 315.606 also issued under E.O. 11219, 30 FR 6381, 3 CFR, 1964-1965 Comp., p. 303. Sec. 315.607 also issued under 22 U.S.C. 2560. Sec. 315.608 also issued under E.O. 12721, 55 FR 31349, 3 CFR, 1990 Comp., p. 293. Sec. 315.610 also issued under 5 U.S.C. 3304(c). Sec. 315.611 also issued under 5 U.S.C. 3304(f). Sec. 315.612 also under E.O. 13473, 73 FR 56703, 3 CFR, 2009 Comp., p. 241. Sec 315.613 also issued under 5 U.S.C. 9602. Sec. 315.710 also issued under E.O. 12596, 52 FR 17537, 3 CFR, 1987 Comp., p. 264.

6. Amend § 315.609 by revising paragraph (e)(2) to read as follows:

§ 315.609 Appointment based on service in United States positions of the Panama Canal Commission.

* * * * *

(e) * * *

(1) * * *

(2) On satisfactory completion of probation if he or she had not previously completed such a 1-year trial period.

7. Amend § 315.614 by revising the section heading and paragraph (g) to read as follows:

§ 315.614 Hiring authority for college graduates.

* * * * *

(g) Acquisition of competitive status. A person appointed under this section acquires competitive status upon completion of probationary period in accordance with the provisions of part 11 of this chapter.

* * * * *

Subpart H—[Removed and Reserved]

8. Subpart H is removed and reserved.

9. Amend § 315.909 by revising paragraph (a) to read as follows:

§ 315.909 Relationship to other actions.

(a) If an employee is required to concurrently serve both a probationary period under this subpart and a probationary period under part 11 of this chapter, the latter takes precedence and completion of the probationary period for competitive appointment fulfills the requirements of this subpart.

* * * * *

PART 316—TEMPORARY AND TERM EMPLOYMENT

10. The authority citation for part 316 is revised to read as follows:

Authority: 5 U.S.C. 3301, 3302; E.O. 10577, 19 FR 7521, 3 CFR, 1954-1958 Comp., p. 218; E.O. 14284, 90 FR 17729; 5 CFR 2.2(c).

11. Revise § 316.304 to read as follows:

§ 316.304 Probationary period.

(a) The first year of service of a term employee is a probationary period regardless of the method of appointment. Prior Federal civilian service is credited toward completion of the required probationary period in the same manner as prescribed by § 11.4 of this chapter.

(b) The agency may terminate a term employee at any time during the probationary period. The employee is entitled to the procedures prescribed by the Director of the Office of Personnel Management under § 11.6 of this chapter.

12. Revise § 316.906 to read as follows:

§ 316.906 Acquisition of competitive status.

A student appointed under § 316.901 acquires competitive status only upon completion of probationary period after any conversion, in accordance with the provisions of part 11 of this chapter. Time spent on a time-limited appointment under this part may count toward fulfillment of such probationary period.

PART 351—REDUCTION IN FORCE

13. The authority citation for part 351 is revised to read as follows:

Authority: 5 U.S.C. 1302, 3502, 3503; E.O. 14284, 90 FR 17729; 5 CFR 2.2(c). Sec. 351.801 also issued under E.O. 12828, 58 FR 2965.

14. Amend § 351.501 by revising paragraph (b)(2) to read as follows:

§ 351.501 Order of retention—competitive service.

* * * * *

(b) * * *

(1) * * *

(2) Group II includes each career-conditional employee, and each employee serving a probationary period under part 11 of this chapter. (A supervisory or managerial employee serving a probationary period required by subpart I of part 315 of this chapter is in group II if the employee has not completed a probationary period under part 11 of this chapter.) Group II also includes an employee when substantial evidence exists of the employee's eligibility to immediately acquire status and career-conditional tenure, and the employee's case is pending final resolution by OPM (including cases under Executive Order 10826 to correct certain administrative errors).

PART 720—AFFIRMATIVE EMPLOYMENT PROGRAMS

15. The authority citation for part 720 continues to read as follows:

Authority: 5 U.S.C. 7201; 42 U.S.C. 2000e; unless otherwise noted.

Subpart J—Equal Opportunity Without Regard to Politics or Marital Status

16. The authority citation for subpart J of part 720 is added to read as follows:

Authority: 5 U.S.C. 2301, 2302, 7201, 7202, 7203, 7204; 42 U.S.C. 2000e. E.O. 14284, 90 FR 17729. 5 CFR 2.2(c).

17. Amend § 720.901 by revising paragraph (b) and removing the undesignated paragraph following paragraph (b). The revisions read as follows:

§ 720.901 Equal opportunity without regard to politics or marital status.

* * * * *

(b) In adverse actions and assignment actions for supervisory or managerial probationers. An agency may not take an adverse action against an employee covered by part 752 of this chapter, nor assign a probationer to another position pursuant to § 315.907 of this chapter:

(1) for political reasons, except when required by statute, or

(2) because of marital status.

[FR Doc. 2025-11576 Filed 6-23-25; 8:45 am]

BILLING CODE P